DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before November 20, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast Washington, DC.

This notice of receipt of applications for special permit is published in accordance with part 107 of the Federal hazardous materials transportation law (49 U.S.C. 5117(b); 49 CFR 1.53(b)).

Issued in Washington, DC, on October 5, 2023.
Donald P. Burger,
Chief, General Approvals and Permits Branch.

Application No. | Applicant | Regulation(s) affected | Nature of the special permits thereof
Special Permits Data
21632-N | Weilert Enterprises, Inc | 173.56(b) | To authorize the manufacture, mark, sale, and use of packaging for cartridges, power device classed as Division 1.4S for the transportation in commerce of these hazardous materials. (mode 5).
21633-N | Exxonmobil Chemical Company | 180.352(b)(1) | To authorize the transportation in commerce of Division 4.3 materials in UN 31A steel intermediate bulk containers that have been requalified using an alternative leakproofness test using nitrogen rather than oxygen. (mode 1).
21634-N | Astra Space Operations, Inc | 173.301(f)(1), 173.302a(a)(1), 178.35(e) | To authorize the transportation in commerce of non-DOT specification cylinders, incorporated into a propellant management system within a satellite. The cylinders are based on the ISO 11119-2 Standard and are not equipped with pressure relief devices. (modes 1, 2, 3, 4, 5).
21635-N | Point One USA, LLC | 173.4b(a)(10)(ii) | To authorize the transportation of colorimetric simulant kits on passenger aircrafts. (mode 5).
21636-N | Tradewater LLC | 173.306(a)(1) | To authorize the transportation in commerce of inner receptacles containing refrigerant gases in quantities exceeding 4 fluid ounces under the limited quantity exception. (modes 1, 2, 3).
21638-N | Bae Systems Controls Inc | 172.101(j) | To authorize the transportation in commerce of lithium ion batteries exceeding 35 kg by cargo-only aircraft. (mode 4).
21642-N | Air Liquide Electronics U.S. LP | 173.23(a) | To authorize the one time shipment of non-dot cylinders of Xenon (UN2036) to the USA for discharge and then destruction. (modes 1, 2, 3).
21644-N | G-Shang Metal Corporation | 180.209 | To authorize the transportation in commerce of DOT 3AL cylinders that have been requalified every 10 years instead of every 5 years. (modes 1, 3).
21648-N | Bentley Motors Incorporated | 172.101(j) | To authorize the transportation in commerce of lithium ion batteries exceeding 35 kg by cargo-only aircraft. (mode 4).
21649-N | Minnesoda Club LLC | 171.2(k) | To authorize the transportation in commerce of certain DOT 3AL, TC/3ALM and UN ISO 7866 cylinders that contain carbon dioxide, with alternative hazard communication. (modes 1, 2).
21650-N | Bollore Logistics Germany GmbH | 172.400, 172.101(j), 172.300, 173.185(a)(1), 173.185(e)(7), 173.301(f), 173.302a(a)(1) | To authorize the transportation in commerce of certain non-DOT specification containers containing certain Division 2.2 and 2.3 liquefied and compressed gases and other hazardous materials for use in specialty cooling applications such as satellites and military aircraft. (modes 1, 4).

[FR Doc. 2023-23153 Filed 10-19-23; 8:45 am]

BILLING CODE P